COMMITTEE FOR PURCHASE FROM PEOPLE WHO ARE BLIND OR SEVERELY DISABLED

Procurement List; Additions and Deletions

AGENCY: Committee for Purchase From People Who Are Blind or Severely Disabled.

ACTION: Additions to and deletions from the Procurement list.

SUMMARY: This action adds products and a service to the Procurement List that will be furnished by nonprofit agencies employing persons who are blind or have other severe disabilities, and deletes products from the Procurement List previously furnished by such agencies.

DATES: Effective Date: August 28, 2016.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 5/20/2016 (81 FR 31917-31918) and 6/24/2106 (81 FR 41297-41298), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products:

NSN(s)—Product Name(s):

8520-00-NIB-0134—Purell Instant Hand Sanitizer, Green-Certified, 8 oz. Bottle

8520-00-NIB-0135—Purell Instant Hand Sanitizer, Green-Certified, 12 oz. Bottle

8520-00-NIB-0141—Purell Instant Hand Sanitizer, Alcohol-Free, Foam, 535 ml Pump Bottle

8520-00-NIB-0142—Purell Instant Hand Sanitizer, Alcohol-Free, Foam, 45 ml Pump Bottle

8520-00-NIB-0143—Purell Instant Hand Sanitizer, Alcohol-Free, Foam, 1200 ml LTX Cartridge Refill

8520-00-NIB-0144—Purell Instant Hand Sanitizer, Alcohol-Free, Foam, 1200 ml ADX Cartridge Refill

Mandatory for: Department of Homeland Security

Mandatory Source(s) of Supply: Travis Association for the Blind, Austin, TX

Contracting Activity: Department of Homeland Security, Office of Procurement Operations, Washington, DC

Distribution: C-List

NSN(s)-Product Name(s): MR 10731—Garden Colander, Includes Shipper 20731

Mandatory for: The requirements of military commissaries and exchanges in accordance with the Code of Federal Regulations, Chapter 51, 51-6.4

Mandatory Source(s) of Supply: Winston-Salem Industries for the Blind, Inc., Wilson-Salem, NC

Contracting Activity: Defense Commissary Agency

Distribution: C-List

Service:

Service Type: Administrative and Contact Center Service

Mandatory for: US Air Force, Total Force Service Center-San Antonio (TFSC-SA), Air Force Personnel Center, Joint Base San Antonio (JBSA) Randolph, JBSA Randolph, TX

Mandatory Source(s) of Supply: Goodwill Industries of San Antonio Contract Services, San Antonio, TX (Goodwill)

Contracting Activity: Dept. of the Air Force, FA3002 338 SCONS CC, Randolph AFB, TX

Service Type: Janitorial Service

Mandatory for: US Forest Service, Northern California Service Center, 6101 Airport Road, Redding, CA

Mandatory Source(s) of Supply: Shasta County Opportunity Center, Redding, CA

Contracting Activity: Forest Service, Pacific Southwest Region, San Francisco, CA

Deletions

On 6/24/2106 (81 FR 41297), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

NSN(s)—Product Name(s):

8415-01-579-9752—Multi-Cam Coat

8415-01-579-9622—Multi-Cam Coat

8415-01-579-9621—Multi-Cam Coat

8415-01-579-9747—Multi-Cam Coat

8415-01-579-9749—Multi-Cam Coat

8415-01-579-9745—Multi-Cam Coat

8415-01-579-9753—Multi-Cam Coat

8415-01-579-9756—Multi-Cam Coat

8415-01-579-9759—Multi-Cam Coat

8415-01-579-9762—Multi-Cam Coat

8415-01-579-9616—Multi-Cam Coat

8415-01-579-9773—Multi-Cam Coat

8415-01-579-9776—Multi-Cam Coat

8415-01-579-9781—Multi-Cam Coat

8415-01-580-0068—Multi-Cam Coat

8415-01-580-0075—Multi-Cam Coat

8415-01-579-9850—Multi-Cam Coat

8415-01-580-0077—Multi-Cam Coat

8415-01-579-9852—Multi-Cam Coat

8415-01-579-9864—Multi-Cam Coat

8415-01-579-9840—Multi-Cam Coat

8415-01-579-9843—Multi-Cam Coat

8415-01-579-9847—Multi-Cam Coat

8415-01-579-9827—Multi-Cam Coat

8415-01-579-9830—Multi-Cam Coat

8415-01-579-9833—Multi-Cam Coat

8415-01-579-9836—Multi-Cam Coat

8415-01-579-9801—Multi-Cam Coat

8415-01-579-9806—Multi-Cam Coat

8415-01-579-9811—Multi-Cam Coat

8415-01-579-9814—Multi-Cam Coat

8415-01-579-9782—Multi-Cam Coat

8415-01-579-9784—Multi-Cam Coat

8415-01-579-9823—Multi-Cam Coat

8415-01-579-9789—Multi-Cam Coat

8415-01-579-9794—Multi-Cam Coat

8415-01-579-9795—Multi-Cam Coat

Mandatory Source(s) of Supply: STEPS, Inc., Farmville, VA, ReadyOne Industries, Inc., El Paso, TX

Contracting Activity: Army Contracting Command—Aberdeen Proving Ground, Natick Contracting Division

NSN(s)—Product Name(s):

8920-01-E62-3504—Cake Mix, Gingerbread; 6-4 lb cans

8920-01-E62-3503—Cake Mix, Gingerbread; 6-5 lb boxes

Mandatory Source(s) of Supply: Transylvania Vocational Services, Inc., Brevard, NC

Contracting Activity: Defense Logistics Agency Troop Support

Barry S. Lineback,
Director, Business Operations.

[FR Doc. 2016-17990 Filed 7-28-16; 8:45 am]

BILLING CODE 6353-01-P